DEPARTMENT OF ENERGY

Federal Energy Regulatory Commission

[Docket No. RP96-389-020]

Columbia Gulf Transmission Company; Notice of Negotiated Rate Filing

March 2, 2001.

Take notice that on February 27, 2001, Columbia Gulf Transmission Company (Columbia Gulf) tendered for filing the following Amendment Agreement to a recently filed negotiated rate transaction: Amendment Agreement to ITS-2 Service Agreement No. 70052 between Columbia Gulf Transmission Company and Amoco Energy Trading Corporation Dated November 30, 2000, as Amended February 23, 2001.

This transportation service was scheduled to commence December 1, 2000 and terminate December 31, 2000. On January 17, 2001, FERC approved an amendment to extend the term through January 31, 2001 (Docket No. RP96-389-017). On January 30, 2001, Columbia Gulf filed an amendment to extend further the Service Agreement's term through February 28, 2001. FERC issued a notice on February 6, 2001 (Docket No. RP96-389-019), and FERC approval is pending. The instant filing includes an executed Amendment Agreement that extends the Service Agreement's term through March 31, 2001. All other terms and provisions remain unchanged and in full force and effect.

Columbia Gulf states that copies of the filing have been served on all parties on the official service list created by the Secretary in this proceeding.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a part must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-5640 Filed 3-7-01; 8:45 am]

BILLING CODE 6717-01-M